DEPARTMENT OF TRANSPORTATION

Coast Guard

[USCG-2000-6096]

Marine Shipboard Electrical Cable Standards

AGENCY: Coast Guard, DOT.

ACTION: Proposed rule: notice of public meeting and reopening of comment period.

SUMMARY: The Coast Guard is holding a public meeting and reopening the comment period to allow for additional comments on the notice of proposed rulemaking for Marine Shipboard Electrical Cable Standards. Since publication of the notice, we have received several requests to hold a public meeting.

DATES: The public meeting is scheduled for Wednesday, June 28, 2000, from 9 a.m. to 3 p.m. but will close early if all business is finished. Comments and related material must reach the Docket Management Facility on or before July 7, 2000.

ADDRESSES: The public meeting will be held in room 2415, U.S. Coast Guard Headquarters, 2100 Second Street SW., Washington, DC.

To make sure your comments and related material are not entered more than once in the docket, please submit them by only one of the following means:

(1) By mail to the Docket Management Facility [USCG-2000-6096], U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this rulemaking. Comments and material received from the public will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: For questions on the public meeting, call Dolores Mercier, Project Manager, Office of Design and Engineering Standards (G-MSE), Coast Guard, telephone 202-267-0658, fax 202-267-4816, e-mail dmercier@comdt.uscg.mil. For questions on viewing or submitting material to the docket, call Dorothy Beard, Chief, Dockets, Department of Transportation, phone 202-366-9329.

SUPPLEMENTARY INFORMATION:

Request for Comments

The notice of proposed rulemaking (NPRM), published on February 8, 2000 (65 FR 6111), encouraged interested persons to participate in this rulemaking by submitting written comments by May 8, 2000. The comment period for this rulemaking is reopened and will close July 7, 2000.

If you submit written comments, please include your name and address, and identify the docket number for this rulemaking [USCG-2000-6096] and the reason for each comment. You may submit your comments and material by mail, delivery, fax, or electronic means to the Docket Management Facility at the address under ADDRESSES; but please submit your comments and material by only one means. Please submit all comments and material in an unbound format, no larger than 8½ by 11 inches, suitable for copying and electronic filing to the Facility at the address under ADDRESSES. If you want acknowledgement of receipt of your comments, please enclose a stamped, self-addressed postcard or envelope. We will consider all comments and material received whether submitted in writing to the docket or presented during the public meeting discussed below.

Public Meeting

We have received several requests for a public meeting and have scheduled one. The scope of the meeting is limited only to matters addressed in the NPRM. Comments concerning adoption of IEEE Standard 45 (1998) will not be included as part of this meeting. A request for comments concerning adoption of IEEE Standard 45 (1998) is scheduled for publication this summer.

We encourage your further participation by attending the meeting or by submitting comments and related material on the NPRM.

Information on Services for Individuals With Disabilities

For information on facilities or services for people with disabilities or to request special assistance at the meeting, contact Dolores Mercier, Office of Design and Engineering Standards (G-MSE), Coast Guard, telephone 202-267-0658, e-mail dmercier@comdt.uscg.mil, as soon as possible.

Dated: May 31, 2000.
R.C. North,
Rear Admiral, U.S. Coast Guard, Assistant Commandant for Marine Safety and Environmental Protection.

[FR Doc. 00-14112 Filed 6-1-00; 1:02 pm]

BILLING CODE 4910-15-U